FEDERAL MARITIME COMMISSION

Sunshine Act Meeting

AGENCY HOLDING THE MEETING: Federal Maritime Commission.

TIME AND DATE: January 26, 2011-10 a.m.

PLACE: 800 North Capitol Street, NW., First Floor Hearing Room, Washington, DC.

STATUS: Part of the meeting will be in Open Session and the remainder of the meeting will be in Closed Session.

MATTERS TO BE CONSIDERED:

Open Session

1. Proposed Notice of Inquiry Concerning the Effects of Slow Steaming on the U.S. Supply Chain and Environment.

Closed Session

1. Staff Briefing on Economic Conditions and Impact on Stakeholders.

2. Docket No. 96-20: Port Restrictions and Requirements in the United States-Japan Trade.

3. Staff Briefing and Discussion Regarding Passenger Vessel Financial Responsibility Requirements.

CONTACT PERSON FOR MORE INFORMATION: Karen V. Gregory, Secretary, (202) 523-5725.

Karen V. Gregory,
Secretary.

[FR Doc. 2011-1380 Filed 1-19-11; 4:15 pm]

BILLING CODE 6730-01-P